DEPARTMENT OF ENERGY

[DOE-HQ-2020-0028]

Securing the United States Bulk-Power System

AGENCY: Office of Electricity, Department of Energy.

ACTION: Extension of public comment period.

SUMMARY: The U.S. Department of Energy (“DOE”) is extending the public comment period for its Request for Information (“RFI”) regarding Executive Order 13920 (E.O. 13920) issued May 1, 2020, titled “Securing the United States Bulk-Power System.” DOE published the RFI in the Federal Register on July 8, 2020, establishing a 30-day public comment period that will end on August 7, 2020. On July 13, 2020, DOE received a comment requesting extension of the comment period by 30 days. DOE is extending the public comment period for submitting comments on the RFI for 17 days to August 24, 2020.

DATES: The comment period for the RFI published on July 8, 2020 (85 FR 41023), is extended. DOE will accept comments regarding this RFI received no later than August 24, 2020.

ADDRESSES: Interested persons are encouraged to submit comments, identified by docket number DOE-HQ-2020-0028, by any of the following methods:

Federal eRulemaking Portal: https://www.regulations.gov/docketBrowser?rpp=25&po=0&D=DOE-HQ-2020-0028. Follow the instructions for submitting comments.

Email: bulkpowersystemEO@hq.doe.gov. Include “Bulk-Power System EO RFI” in the subject line of the message.

Mail: Charles Kosak, Deputy Assistant Secretary, Transmission Permitting and Technical Assistance Division, Office of Electricity, Mailstop OE-20, Room 8G-024, Department of Energy, 1000 Independence Avenue SW, Washington, DC 20585.

FOR FURTHER INFORMATION CONTACT: Mr. Charles Kosak, Deputy Assistant Secretary, Transmission Permitting and Technical Assistance Division, Office of Electricity, email: bulkpowersystemEO@hq.doe.gov or phone: (202) 586-2036.

SUPPLEMENTARY INFORMATION: On July 8, 2020, DOE published an RFI in the Federal Register soliciting public comment regarding Executive Order 13920 (E.O. 13920) issued May 1, 2020, titled “Securing the United States Bulk-Power System.” 85 FR 41023. Comments were originally due on August 7, 2020. On July 13, 2020, DOE received a comment from the American Public Power Association (APPA), National Rural Electric Cooperative Association (NRECA), Edison Electric Institute (EEI), Large Public Power Council (LPPC), Utilities Technology Council (UTC), American Petroleum Institute (API), Electricity Consumers Resource Council (ELCON), and the Electric Power Supply Association (EPSA) requesting extension of the comment period by 30 days.¹ The commenters stated more time is needed to provide the level of research that would support fully informed responses. DOE has reviewed this request and considered the benefit to stakeholders in providing additional time to review the RFI and gather information that DOE is seeking. Accordingly, DOE has determined that extending the comment period is appropriate and will accept comments until August 24, 2020.

¹ DOE has posted this comment to the docket at https://www.regulations.gov/docketBrowser?rpp=25&po=0&D=DOE-HQ-2020-0028.

Signing Authority

This document of the Department of Energy was signed on July 17, 2020, by Bruce J. Walker, Assistant Secretary, Office of Electricity, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on July 17, 2020.
Treena V. Garrett,
Federal Register Liaison Officer, U.S. Department of Energy.

[FR Doc. 2020-15848 Filed 7-20-20; 8:45 am]

BILLING CODE 6450-01-P